DEPARTMENT OF THE INTERIOR

Fish and Wildlife Service

50 CFR Part 17

Notice of Availability of a Final Recovery Plan for the Howell's Spectacular Thelypody (Thelypodium howellii ssp. spectabilis)

AGENCY: Fish and Wildlife Service, Interior.

ACTION: Notice of document availability.

SUMMARY: We, the U.S. Fish and Wildlife Service, announce the availability of a final recovery plan for the Howell's spectacular thelypody (Thelypodium howellii ssp. spectabilis; thelypody). This threatened plant, a member of the mustard family, occurs on fewer than 12 small sites located within 100 acres of private lands near North Powder and Haines in eastern Oregon (Baker and Union Counties). The thelypody occurs in mesic, alkaline meadow habitats and all remaining populations occur within or directly adjacent to agricultural fields or urban areas. Actions needed for recovery include permanent protection of remaining populations and habitat, and management to provide for naturally reproducing populations that have stable or increasing trends.

ADDRESSES: Recovery plans that have been approved by the U.S. Fish and Wildlife Service are available on the World Wide Web at http://www.r1.fws.gov/ecoservices/endangered/recovery/default.htm. Recovery plans may also be obtained from: Fish and Wildlife Reference Service, 5430 Grosvenor Lane, Suite 110, Bethesda, Maryland 20814, (301) 429-6403 or 1-800-582-3421. The fee for the plan varies depending on the number of pages of the plan.

FOR FURTHER INFORMATION CONTACT: Johnna Roy, Wildlife Biologist, U.S. Fish and Wildlife Service, Snake River Fish and Wildlife Office, 1387 South Vinnell Way, Boise, ID 83709; phone (208) 378-5243.

SUPPLEMENTARY INFORMATION:

Background

Recovery of endangered or threatened animals and plants is a primary goal of the our endangered species program. A species is considered recovered when the species' ecosystem is restored and/or threats to the species are removed so that self-sustaining and self-regulating populations of the species can be supported as persistent members of native biotic communities. Recovery plans describe actions considered necessary for the conservation of the species, establish criteria for downlisting or delisting listed species, and estimate time and cost for implementing the measures needed for recovery.

The Endangered Species Act of 1973, as amended in 1988 (Act) (16 U.S.C. 1531 et seq.), requires that recovery plans be developed for listed species unless such a plan would not promote the conservation of a particular species. Section 4(f) of the Act requires that during recovery plan development, we provide public notice and an opportunity for public review and comment. Information presented during the comment period has been considered in the preparation of the final recovery plan, and is summarized in an appendix to the recovery plan. We will forward substantive comments regarding recovery plan implementation to appropriate Federal or other entities so that they can take these comments into account during the course of implementing recovery actions.

The thelypody was listed as a threatened species on June 25, 1999. This taxon is endemic to the Baker-Powder River Valley in eastern Oregon. It is currently found in five populations in Baker and Union Counties, Oregon. It formerly also occurred in the Willow Creek Valley in Malheur County. The species grows in alkaline meadows in valley bottoms, usually in and around shrubs such as greasewood or rabbitbrush. The plants are threatened by habitat modification such as grazing during spring and early summer, trampling, urban development, and competition from non-native plants.

The objective of this plan is to provide a framework for the recovery of the thelypody so that protection by the Act is no longer necessary. As recovery criteria are met, the status of the species will be reviewed and it will be considered for removal from the List of Endangered and Threatened Wildlife (50 CFR part 17). The Howell's spectacular thelypody will be considered for delisting when: (1) At least five stable or increasing thelypody populations are distributed throughout its extant or historic range and populations must be naturally reproducing with stable or increasing trends for 10 years; (2) all five populations are located on permanently protected sites; (3) management plans have been developed and implemented for each site that specifically provide for the protection of thelypody and its habitat; and (4) a post-delisting monitoring plan is in place that will monitor the status of thelypody for at least 5 years at each site once it has been delisted.

Authority: The authority for this action is section 4(f) of the Endangered Species Act, 16 U.S.C. 1533 (f).

Dated: June 3, 2002.
Rowand W. Gould,
Regional Director, Region 1, U.S. Fish and Wildlife Service.

[FR Doc. 02-19624 Filed 8-2-02; 8:45 am]

BILLING CODE 4310-55-P